DEPARTMENT OF TRANSPORTATION

Federal Aviation Administration

14 CFR Part 39

[Docket No. FAA-2009-0246; Directorate Identifier 2009-NE-04-AD; Amendment 39-16091; AD 2009-24-04]

RIN 2120-AA64

Airworthiness Directives; Rolls-Royce Corporation AE 3007A1/1, AE 3007A1/3, AE 3007A1, AE 3007A1E, AE 3007A1P, AE 3007A3, AE 3007C, and AE 3007C1 Turbofan Engines

AGENCY: Federal Aviation Administration (FAA), DOT.

ACTION: Final rule.

SUMMARY: The FAA is adopting a new airworthiness directive (AD) for Rolls-Royce Corporation (RRC) AE 3007A1/1, AE 3007A1/3, AE 3007A1, AE 3007A1E, AE 3007A1P, AE 3007A3, AE 3007C, and AE 3007C1 turbofan engines with a fan spinner part number (P/N) 23070964 or P/N 23078783, installed. This AD requires replacement of the fan spinner. This AD results from a report of a fan spinner releasing from an AE 3007A turbofan engine, during flight. We are issuing this AD to prevent the fan spinner from releasing, which could result in injury, damage to the engine, and damage to the airplane.

DATES: This AD becomes effective December 28, 2009.

ADDRESSES: The Docket Operations office is located at Docket Management Facility, U.S. Department of Transportation, 1200 New Jersey Avenue, SE., West Building Ground Floor, Room W12-140, Washington, DC 20590-0001.

FOR FURTHER INFORMATION CONTACT: Michael Downs, Aerospace Engineer, Chicago Aircraft Certification Office, FAA, Small Airplane Directorate, 2300 East Devon Avenue, Des Plaines, IL 60018; e-mail: michael.downs@faa.gov; telephone: (847) 294-7870; fax: (847) 294-7834.

SUPPLEMENTARY INFORMATION: The FAA proposed to amend 14 CFR part 39 with a proposed AD. The proposed AD applies to RRC AE 3007A1/1, AE 3007A1/3, AE 3007A1, AE 3007A1E, AE 3007A1P, AE 3007A3, AE 3007C, and AE 3007C1 turbofan engines with a fan spinner P/N 23070964 or P/N 23078783, installed. We published the proposed AD in the Federal Register on June 24, 2009 (74 FR 30017). That action proposed to require replacement of the fan spinner.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We have considered the comments received.

Request To Change the Compliance Time

One commenter, Rolls-Royce Corporation, requests that we change the compliance time of no later than 1,500 additional cycles-in-service, to no later than 4,000 additional cycles-in-service. The commenter bases this change on their updated risk assessment of the affected fan spinners.

We have reviewed Rolls-Royce Corporation's updated risk assessment and agree with the change in compliance time. We changed the AD to state the compliance time to be no later than 4,000 additional cycles-in-service.

Request To Specify Installation of an Approved Fan Spinner

One commenter, EMBRAER, requests that we specify that an approved fan spinner must be installed after the affected fan spinner is removed. The commenter states that the proposed AD does not instruct to install a fan spinner, and operators might interpret the AD as allowing engines to operate without a fan spinner.

We agree. We added wording to paragraphs (f) and (g) that states to install an approved P/N fan spinner.

Conclusion

We have carefully reviewed the available data, including the comments received, and determined that air safety and the public interest require adopting the AD with the changes described previously. We have determined that these changes will neither increase the economic burden on any operator nor increase the scope of the AD.

Costs of Compliance

We estimate that this AD will affect 1,600 RRC AE 3007A series and AE 3007C series turbofan engines installed on airplanes of U.S. registry. We also estimate that it will take about one work-hour per engine to perform the actions, and that the average labor rate is $80 per work-hour. Required parts will cost about $12,943 per engine. Based on these figures, we estimate the total cost of the AD to U.S. operators to be $20,836,800.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2009-24-04 Rolls-Royce Corporation (formerly Allison Engine Company): Amendment 39-16091. Docket No. FAA-2009-0246; Directorate Identifier 2009-NE-04-AD.

Effective Date

(a) This airworthiness directive (AD) becomes effective December 28, 2009.

Affected ADs

(b) None.

Applicability

(c) This AD applies to Rolls-Royce Corporation (RRC) AE 3007A1/1, AE 3007A1/3, AE 3007A1, AE 3007A1E, AE 3007A1P, AE 3007A3, AE 3007C, and AE 3007C1 turbofan engines with a fan spinner part number (P/N) 23070964 or P/N 23078783, installed. These engines are installed on, but not limited to, Embraer EMB-135, EMB-145, and Cessna Citation X airplanes.

Unsafe Condition

(d) This AD results from a report of a fan spinner releasing from an AE 3007A turbofan engine during flight. We are issuing this AD to prevent the fan spinner from releasing, which could result in injury, damage to the engine, and damage to the airplane.

Compliance

(e) You are responsible for having the actions required by this AD performed within the compliance times specified unless the actions have already been done.

Replacement of the Fan Spinner

(f) For RRC AE 3007A1/1, AE 3007A1/3, AE 3007A1, AE 3007A1E, AE 3007A1P, and AE 3007A3 turbofan engines, remove fan spinner P/N 23070964 or P/N 23078783 at the next shop visit, but no later than 4,000 additional cycles-in-service (CIS) after the effective date of this AD, and install an approved P/N fan spinner.

(g) For RRC AE 3007C and AE 3007C1 turbofan engines, remove fan spinner P/N 23070964 or P/N 23078783 at the next shop visit, but no later than 4,000 additional CIS after the effective date of this AD, and install an approved P/N fan spinner.

Fan Spinner Installation Prohibition

(h) After the effective date of this AD, do not install any fan spinner P/N 23070964 or P/N 23078783 on any Rolls Royce Corporation engine.

Definition

(i) For the purpose of this AD, a shop visit is induction of the engine into the engine maintenance shop for any cause.

Alternative Methods of Compliance

(j) The Manager, Chicago Aircraft Certification Office, has the authority to approve alternative methods of compliance for this AD if requested using the procedures found in 14 CFR 39.19.

Related Information

(k) Contact Michael Downs, Aerospace Engineer, Chicago Aircraft Certification Office, FAA, Small Airplane Directorate, 2300 East Devon Avenue, Des Plaines, IL 60018; e-mail: michael.downs@faa.gov; telephone: (847) 294-7870; fax: (847) 294-7834, for more information about this AD.

(l) Rolls-Royce Corporation Service Bulletin (SB) No. AE 3007A-72-361, dated June 26, 2008, and SB No. AE 3007C-72-285, dated June 26, 2008, pertain to the subject of this AD. Contact Rolls-Royce Corporation, P.O. Box 420, Indianapolis, IN 46206; telephone (317) 230-3774; fax (317) 230-8084; e-mail: indy.pubs.services@rolls-royce.com, for a copy of this service information.

Material Incorporated by Reference

(m) None.

Issued in Burlington, Massachusetts, on November 13, 2009.
Peter A. White,
Assistant Manager, Engine and Propeller Directorate, Aircraft Certification Service.

[FR Doc. E9-27986 Filed 11-20-09; 8:45 am]

BILLING CODE 4910-13-P